FEDERAL ACCOUNTING STANDARDS ADVISORY BOARD

Notice of Public Hearing and Issuance of Statement of Federal Financial Accounting Standards (SFFAS) No. 26

Board Action: Pursuant to 31 U.S.C. 3511(d), the Federal Advisory Committee Act (Pub. L. 92-463), as amended, and the FASAB Rules of Procedure, as amended in April 2004, notice is hereby given that the Federal Accounting Standards Advisory Board (FASAB) will hold a public hearing in conjunction with its December 16, 2004, Board Meeting from 9 a.m. to noon. The public hearing will address the exposure draft (ED) Inter-Entity Cost Implementation—Amending SFFAS 4, Managerial Cost Accounting Standards and Concepts. Those interested in testifying should contact Melissa Loughan, Assistant Director, no later than one week prior to the hearing. Ms. Loughan can be reached at 202-512-5976 or via e-mail at loughanm@fasab.gov. Also, they should at the same time provide a short biography and written copies of their testimony. The ED is available on the FASAB Web site http://www.fasab.gov under Exposure Drafts.

FASAB also announces the publication of Statement of Federal Financial Accounting Standard 26, entitled Presentation of Significant Assumptions for the Statement of Social Insurance: Amending SFFAS 25. An electronic version of the statement is available on the World Wide Web at http://www.fasab.gov/standards.html.

For Further Information Contact: Wendy M. Comes, Executive Director, 441 G St., NW., Mail Stop 6K17V, Washington, DC 20548, or call (202) 512-7350.

Authority: Federal Advisory Committee Act. Pub. L. 92-463.

Dated: November 10, 2004.
Charles Jackson,
Federal Register Liaison Officer.

[FR Doc. 04-25586 Filed 11-17-04; 8:45 am]

BILLING CODE 1610-01-M